SECURITIES AND EXCHANGE COMMISSION

[Release No. 34-45558; File No. SR-OCC-2002-01]

Self-Regulatory Organizations; The Options Clearing Corporation; Notice of Filing and Immediate Effectiveness of a Proposed Rule Change Eliminating Clearing Fees

March 14, 2002.

Pursuant to Section 19(b)(1) of the Securities Exchange Act of 1934 (“Act”),¹ notice is hereby given that on January 11, 2002, The Options Clearing Corporation (“OCC”) filed with the Securities and Exchange Commission (“Commission”) the proposed rule change as described in Items I, II, and III below, which items have been prepared primarily by OCC. The Commission is publishing this notice to solicit comments on the proposed rule change from interested persons.

¹ 15 U.S.C. 78s(b)(1).

I. Self-Regulatory Organization's Statement of the Terms of Substance of the Proposed Rule Change

The proposed rule change amends OCC's fee schedule to eliminate certain fees for discontinued or soon to be discontinued services.

II. Self-Regulatory Organization's Statement of the Purpose of, and Statutory Basis for, the Proposed Rule Change

In its filing with the Commission, OCC included statements concerning the purpose of and basis for the proposed rule change and discussed any comments it received on the proposed rule change. The text of these statements may be examined at the places specified in Item IV below. OCC has prepared summaries, set forth in sections (A), (B), and (C) below, of the most significant aspects of such statements.²

² The Commission has modified parts of these statements.

(A) Self-Regulatory Organization's Statement of the Purpose of, and Statutory Basis for, the Proposed Rule Change

The purpose of this rule change is to amend OCC's fee schedule in two respects. First, OCC is eliminating ONN Fees, effective January 1, 2002. ONN is an electronic bulletin board service operated by OCC for clearing members and other subscribers to access pertinent information posted by OCC and the options exchanges.³ Information posted on ONN includes information memos on contract adjustments, other notices to clearing members, statistical and volume information, and certain reports. Most of the information made available via ONN is now available on OCC's public web site, www.optionsclearing.com. Other information not currently available on OCC's web site will be made available via MyOCC,™ a new web site portal that OCC is creating for use by clearing members and other subscribers. When MyOCC™ is launched, ONN will no longer be offered and MyOCC™ will become the principal vehicle for disseminating options related information. At this time, OCC has determined not to charge fees to access MyOCC,™ and it would be inconsistent with that policy to continue to charge fees for ONN in the meantime.

³ Securities Exchange Act Release No. 28669 (December 3, 1990), 55 FR 50793 [Filed No. SR-OCC-09-12].

Second, OCC is eliminating off-site microfiche retrieval charges. In 1996, OCC converted the media on which historical reports were made available to subscribing clearing members from microfiche to CD-ROM and amended its fee schedule to reflect the associated charges.⁴ As stated in Filing SR-OCC-96-14, microfiche charges were to be eliminated after the conversion was completed. The conversion was finished some time ago, and accordingly, OCC is updating its fee schedule.

⁴ Securities Exchange Act Release No. 37993 (November 27, 1996), 61 FR 64407 [File No. SR-OCC-96-14].

OCC believes the proposed rule change is consistent with Section 17A of the Act because it eliminates fees charged to clearing members and other subscribers for discontinued or soon to be discontinued services.

(B) Self-Regulatory Organization's Statement on Burden on Competition

OCC does not believe that the proposed rule change would impose any burden on competition.

(C) Self-Regulatory Organization's Statement on Comments on the Proposed Rule Change Received From Members, Participants, or Others

Written comments were not and are not intended to be solicited with respect to the proposed rule change, and none have been received.

III. Date of Effectiveness of the Proposed Rule Change and Timing for Commission Action

Because the foregoing rule change eliminates fees charged clearing members by OCC, it has become effective pursuant to Section 19(b)(3)(A)(ii) of the Act ⁵ and Rule 19b-4(f)(2) ⁶ thereunder. At any time within sixty days of the filing of the proposed rule change, the Commission may summarily abrogate such rule change if it appears to the Commission that such action is necessary or appropriate in the public interest, for the protection of investors, or otherwise in furtherance of the purposes of the Act.

⁵ 15 U.S.C. 78s(b)(3)(A)(ii).

⁶ 17 CFR 240.19b-4(f)(2).

IV. Solicitation of Comments

Interested persons are invited to submit written data, views, and arguments concerning the foregoing, including whether the proposed rule change is consistent with the Act. Persons making written submissions should file six copies thereof with the Secretary, Securities and Exchange Commission, 450 Fifth Street NW, Washington, DC 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Section, 450 Fifth Street NW, Washington, DC 20549. Copies of such filing will also be available for inspection and copying at the principal office of OCC. All submissions should refer to the File No. SR-OCC-2002-01 and should be submitted by April 11, 2002.

For the Commission by the Division of Market Regulation, pursuant to delegated authority.⁷
⁷ 17 CFR 200.30-3(a)(12).
Margaret H. McFarland,
Deputy Secretary.

[FR Doc. 02-6827 Filed 3-20-02; 8:45 am]

BILLING CODE 8010-01-P